HOUSING AND URBAN DEVELOPMENT

24 CFR Part 941

Public Housing Development

CFR Correction

In Title 24 of the Code of Federal Regulations, parts 700 to 1699, revised as of April 1, 2005, on page 381, § 941.207 is corrected by removing the parenthetical statement at the end of the section.

[FR Doc. 05-55518 Filed 12-7-05; 8:45 am]

BILLING CODE 1505-01-D